DEPARTMENT OF LABOR

Employment and Training Administration

[TA-W-41,497 and NAFTA-06126]

Furnimex Products USA Inc., Charm House Manufacturing, Sumter, South Carolina; Notice of Negative Determination Regarding Application for Reconsideration

By application of September 11, 2002, the petitioners requested administrative reconsideration of the Department's negative determination regarding eligibility for workers and former workers of the subject firm to apply for Trade Adjustment Assistance (TAA) under petition TA-W-41,497 and North American Free Trade Agreement-Transitional Adjustment Assistance (NAFTA-TAA) under petition NAFTA-06126. The TAA denial notice applicable to workers of Furnimex Products USA Inc., Charm House Manufacturing, Sumter, South Carolina was signed on August 6, 2002 and published in the Federal Register on August 20, 2002 (67 FR 53971). The NAFTA-TAA denial notice was signed on June 21, 2002 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Furnimex Products USA Inc., Charm House Manufacturing, Sumter, South Carolina, was denied because the “contributed importantly” group eligibility requirement of section 222(3) of the Trade Act of 1974, as amended, was not met. The “contributed importantly” test is generally demonstrated through a survey of the workers' firm's customers. The major customer of the subject firm went out of business and the loss of that customer was the major contributing factor leading to the closure of the plant. The workers produced bed linens and blankets.

The NAFTA-TAA petition for the same worker group was denied because criteria (3) and (4) of the group eligibility requirements in paragraph (a)(1) of section 250 of the Trade Act, as amended, were not met. There was no shift in production from the workers' firm to Mexico or Canada during the relevant period. Imports from Canada or Mexico did not contribute importantly to worker separations. The investigation also revealed that a major customer of the subject firm went out of business and the loss of this customer was the major contributing factor to the closure of the Sumter plant.

The petitioner appears to be indicating that plant production was shifted to Mexico after the plant closed down.

An examination of the initial decision and further contact with the company show that the closure of the subject plant is due to a major customer going out of business. That customer accounted for a major portion of the subject plant's sales and thus impacted the subject plant.

Further contact with the company also shows that the company was a Limited Liability Partnership (LLC) between the owner of Charm House Manufacturing and Furnimex Products USA Incorporated. The company indicated that no plant production was shifted to Mexico. Furnimex Products USA Incorporated indicated that an extremely small portion of subject plant production was outsourced to an unaffiliated plant located in Mexico, after the subject plant closed down, only as a customer courtesy. The amount outsourced and imported back from Mexico was not significant.

Conclusion

After review of the application and investigative findings, I conclude that there has been no misinterpretation of the law or of the facts which would justify reconsideration of the Department of labor's prior decisions. Accordingly, the application is denied.

Signed at Washington, DC this 3rd day of February, 2003.
Edward A. Tomchick,
Director, Division of Trade Adjustment Assistance.

[FR Doc. 03-4280 Filed 2-21-03; 8:45 am]

BILLING CODE 4510-30-P